NATIONAL TRANSPORTATION SAFETY BOARD

Public Aircraft Oversight Safety Forum

The National Transportation Safety Board (NTSB) will convene a Public Aircraft Oversight Safety Forum which will begin at 9 a.m., Wednesday, November 30, 2011. NTSB Chairman Deborah A.P. Hersman will chair the two-day forum and all five Board Members will participate. The forum is open to all and free to attend (there is no registration).

Public aircraft are operated by a federal, state, or local government for the purpose of fulfilling governmental functions such as national defense, intelligence missions, firefighting, search and rescue, law enforcement, aeronautical research, or biological or resource management. Government organizations conducting public aircraft operations supervise their own flight and maintenance operations without oversight from the Federal Aviation Administration (FAA).

The goals of the forum, entitled “Public Aircraft Oversight Forum: Ensuring Safety for Critical Missions”, are to (1) raise awareness of the importance of effective oversight in ensuring the safety of public aircraft operations; (2) identify where responsibility lies for oversight of public aircraft operations; and (3) facilitate the sharing of best practices and lessons learned across a number of parties involved in the oversight of public aircraft operations.

All of these areas will be explored through presentations by invited representatives from federal, state, and local government entities, aviation industry trade associations, and civil operators contracting with government agencies. At the conclusion of all presentations for each topic area, presenters will take part in a question and answer discussion with Board Members and NTSB staff.

Below is the preliminary forum agenda:

Wednesday, November 30

—Welcome and Opening Remarks.

—Defining Public Aircraft.

—Defining Oversight.

—The Role of the FAA in Public Aircraft Oversight.

—Oversight of Government-Owned Aircraft.

Thursday, December 1

—Oversight of Contracted Aircraft.

—Contractors' Perspective on Public Aircraft Oversight.

—Role of Organizations Representing Public Aircraft Operators and Contractors.

—Closing Remarks.

A detailed agenda and list of participants will be released closer to the date of the event.

Organizations and individuals can submit questions for consideration as part of the question and answer discussions. Submissions should directly address one or more of the forum's seven topic areas (identified by the panel titles) and should be submitted to publicaircraft@ntsb.gov. The deadline for receipt is November 25, 2011.

The forum will be held in the NTSB Board Room and Conference Center, located at 429 L'Enfant Plaza, SW., Washington, DC. The public can view the forum in person or by webcast at http://www.ntsb.gov.

NTSB Media Contact: Bridget Serchak, (202) 314-6100 (Washington, DC), Bridget.serchak@ntsb.gov.

NTSB Forum Manager: Georgia Struhsaker, (808) 329-9161 (Hawaii), Georgia.Struhsaker@ntsb.gov.

Dated: November 10, 2011.
Candi R. Bing,
Federal Register Liaison Officer.

[FR Doc. 2011-29626 Filed 11-15-11; 8:45 am]

BILLING CODE 7533-01-P